DEPARTMENT OF HOMELAND SECURITY

U.S. Citizenship and Immigration Services

Agency Information Collection Activities: Comment Request

ACTION: Request OMB emergency approval; Petition for nonimmigrant worker; Form I-129, edition (Rev. 12/10/2001).

The Department of Homeland Security, U.S. Citizenship and Immigration Services (USCIS) has submitted the following information collection request utilizing emergency review and clearance in accordance with section 1320.13(a)(1)(ii) and (1)(2)(iii) of the Paperwork Reduction Act of 1995. The USCIS has determined that it cannot reasonably comply with the normal clearance procedures under this part because normal clearance procedures are reasonably likely to prevent or disrupt the collection of information. Emergency review and approval of this information collection will ensure that the collection may continue.

USCIS is requesting emergency clearance of the December 10, 2001 version of Form I-129, Petition for Nonimmigrant Worker until April 30, 2005. While USCIS has received OMB approval of the changes to the information collection required by the OAA, many members of the public have, in anticipation of the USCIS allocation, already prepared petitions for these new visas using the pre-amended Form I-129. In order to accommodate this segment of the public, USCIS seeks approval of the prior version of the Form I-129 to run concurrent with the new amended version until April 30, 2005. After that date approval of the old I-129 will expire and the new version of Form I-129 will be the only version approved for use.

USCIS is implementing the OAA and allocating the additional H-1B visas through rulemaking in the Federal Register. While that rulemaking will contain detailed filing instructions to the public, USCIS is aware that some members of the public may only see the form itself and not be aware of the rulemaking. To address this possibility, USCIS will post the information on the form download page on its Web site. This will ensure that no one will receive this form without instruction on the proper filing method.

All comments and/or questions pertaining to this pending request for emergency approval MUST be directed to OMB, Office of Information and Regulatory Affairs, 725-17th Street, NW., Suite 10235, Washington, DC 20503; Attention: Department of Homeland Security Desk Officer. Comments regarding the emergency submission of this information collection may also be submitted via facsimile to (202) 395-6974.

During this review, USCIS invites written comments and suggestions from the public and affected agencies concerning this information collection. Comments are encouraged and will be accepted until April 30, 2005. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

(5) Overview of this information collection:

(1) Type of Information Collection: New collection of approved information collection.

(2) Title of the Form/Collection: Petition for Nonimmigrant Worker.

(3) Agency form number, if any and the applicable component of the Department of Homeland Security sponsoring the collection: Form I-129. U.S. Citizenship and Immigration Services (Rev. 12/10/2001).

(4) Affected public who will be asked or required to respond, as well as brief abstract: Primary: Individuals or households. This form is used by an employer to petition for aliens to come to the U.S. temporarily to perform services, labor, and training or to request extensions of stay or changes in nonimmigrant status for nonimmigrant workers.

(5) An estimate of the total number of respondents and the amount of time estimated for an average respondent to respond: 368,948 responses at 2.75 hours per response.

(6) An estimate of the total public burden (in hours) associated with the collection: 1,014,607 annual burden hours.

If you have additional comments, suggestions, or need a copy of the proposed information. Additionally, comments and/or suggestions regarding the item(s) contained in this notice, especially regarding the estimated public burden and associated response time may also be directed to Mr. Richard Sloan, Director, Regulatory Management Division, U.S. Department of Homeland Security, 111 Massachusetts Avenue NW., 3rd Floor, Washington, DC 20529.

If additional information is required contact: Stephen Cooper, Department Clearance Officer, United States Department of Homeland Security, Regional Office Building 3, 7th and D Streets, SW., Washington, DC 20530.

Dated: April 15, 2005.
Richard A. Sloan,
Director, Regulatory Management Division, U.S. Citizenship and Immigration Services.

[FR Doc. 05-7879 Filed 4-19-05; 8:45 am]

BILLING CODE 4410-10-M